DEPARTMENT OF DEFENSE

Department of the Army, Corps of Engineers

Intent To Prepare an Analysis Under the National Environmental Policy Act for the Port Everglades Navigation Improvements Project, Broward County, Florida

AGENCY: Department of the Army, U.S. Army Corps of Engineers, DOD.

ACTION: Notice of intent.

SUMMARY: The Jacksonville District, U.S. Army Corps of Engineers (Corps) is beginning preparation of a supplemental National Environmental Policy Act (NEPA) analysis for the Port Everglades Navigation Improvements Project. The Port Everglades Navigation Improvement Project is designed to address future growth of cargo being transported to southeast Florida on post-Panamax ships due to the completion of the Panama Canal expansion, and to ensure safe navigational conditions for those vessels, as well as vessels currently calling at Port Everglades. The Port Everglades Feasibility Study was authorized through House Document 126, 103rd Congress, 1st Session, and House Document 144, 93rd Congress, 1st Session and by a resolution of the House Committee on Transportation dated May 9, 1996. In response to the study authority, the feasibility study was initiated in 2001 and completed with the signature of a Chief's Report and Record of Decision in 2016. The final recommended project was authorized as part of the Water Infrastructure Improvements for the Nation Act signed December 2016. The non-federal sponsor for the project is Broward County. The primary federal objective is to provide for increased navigational safety, efficiency, and improved economic conditions while limiting impacts to the environment to the maximum extent practicable, in accordance with environmental statutes, applicable executive orders, and other federal planning requirements.

ADDRESSES: U.S. Army Corps of Engineers, Planning and Policy Division, Environmental Branch, P.O. Box 4970, Jacksonville, FL 32232-0019.

FOR FURTHER INFORMATION CONTACT: Terri Jordan-Sellers at 904-232-1817 or email at Terri.Jordan-Sellers@usace.army.mil. Additional information is also available at http://www.saj.usace.army.mil/Missions/Civil-Works/Navigation/Navigation-Projects/Port-Everglades/.

SUPPLEMENTARY INFORMATION:

a. The level of design required to complete the Feasibility study was not as specific as the requirements for permitting and construction. As the project moves in the Pre-Engineering and Design Phase, additional information will be collected to refine the effects analysis prepared as part of the Environmental Impact Statement completed in 2016. Supplemental information will be utilized as part of the State of Florida permit application process, including updated resource surveys; hydrodynamic and sedimentation modeling and the development of revised Monitoring, Mitigation and Adaptive Management plans.

b. The objectives of the supplemental NEPA will consider alternatives to enhance methods to avoid, minimize and mitigate potential impacts associated with the construction of the Port Everglades Navigation Improvements Project.

c. A scoping letter was mailed September 27, 2016 to invite comments from Federal, State, and local agencies, affected Indian Tribes, and other interested private organizations and individuals. The scoping comment period will end on March 24, 2017. Written comments can be submitted to: Jacksonville District, U.S. Army Corps of Engineers; Attn: Planning Division—Terri Jordan Sellers; 701 San Marco Boulevard, Jacksonville, FL 32207-8175.

d. Two scoping meetings will be held February 22, 2017 beginning at 2:00 p.m. and 6:00 p.m. at the Broward County Convention Center, 1950 Eisenhower Boulevard, Fort Lauderdale, Florida 33316.

e. All alternative plans will be reviewed under provisions of appropriate laws and regulations, including the Endangered Species Act, Magnuson-Stevens Fishery Conservation and Management Act, Marine Mammal Protection Act and Clean Water Act.

f. The Draft Supplemental NEPA document is expected to be available for public review in mid to late 2018.

Dated: January 19, 2017.
Eric P. Summa,
Chief, Planning and Policy Division.

[FR Doc. 2017-01804 Filed 1-25-17; 8:45 am]

BILLING CODE 3720-58-P